DEPARTMENT OF THE TREASURY

Alcohol and Tobacco Tax and Trade Bureau

27 CFR Parts 40, 41, 44, and 45

[Notice No. 69; Re: Notice No. 65]

RIN 1513-AB34

Tax Classification of Cigars and Cigarettes

AGENCY: Alcohol and Tobacco Tax and Trade Bureau, Treasury.

ACTION: Notice of proposed rulemaking; extension of comment period.

SUMMARY: In response to an industry member request, the Alcohol and Tobacco Tax and Trade Bureau extends the comment period for Notice No. 65, Tax Classification of Cigars and Cigarettes, a notice of proposed rulemaking published in the Federal Register on October 25, 2006, for an additional 90 days.

DATES: Written comments on Notice No. 65 must now be received on or before March 26, 2007.

ADDRESSES: You may send comments to any of the following addresses—

• Director, Regulations and Rulings Division, Alcohol and Tobacco Tax and Trade Bureau, Attn: Notice No. 65, P.O. Box 14412, Washington, DC 20044-4412.

• 202-927-8525 (facsimile).

• nprm@ttb.gov (e-mail).

• http://www.ttb.gov/regulations_laws/all_rulemaking.shtml. An online comment form is posted with this notice on our Web site.

• http://www.regulations.gov. Federal e-rulemaking portal; follow instructions for submitting comments.

You may view copies of this extension notice, Notice No. 65, and any comments we receive by appointment at the TTB Information Resource Center, 1310 G Street, NW., Washington, DC 20220. To make an appointment, call 202-927-2400. You may also access copies of this extension notice, Notice No. 65, and the related comments online at http://www.ttb.gov/regulations_laws/all_rulemaking.shtml.

FOR FURTHER INFORMATION CONTACT: Linda Wade Chapman, Regulations and Rulings Division, Alcohol and Tobacco Tax and Trade Bureau, 1310 G Street, NW., Suite 200-E, Washington, DC 20220; telephone 202-927-8210; or e-mail Linda.Chapman@ttb.gov.

SUPPLEMENTARY INFORMATION: On October 25, 2006, the Alcohol and Tobacco Tax and Trade Bureau (TTB) published Notice No. 65, Tax Classification of Cigars and Cigarettes, in the Federal Register (71 FR 62506). In that notice of proposed rulemaking, TTB requested public comment on proposed amendments to our regulations regarding the classification of cigars and cigarettes for Federal excise tax purposes. As originally published, the comment period for Notice No. 65, was scheduled to close on December 26, 2006.

After publication of Notice No. 65, TTB received a request from the Cigar Association of America, Inc. (CAA) to extend the comment period for Notice No. 65 for 90 days beyond the December 26, 2006, closing date. In its letter to TTB, CAA lists three reasons for the extension request. First, CAA notes that Notice No. 65 raises numerous complex and important issues relating to the tax classification of cigars and cigarettes and the proposed method for measuring total reducing sugars. Second, CAA states that it requires additional time to coordinate with its domestic and foreign members to consider the impact of the proposed regulatory changes on the industry and to evaluate the analytical method TTB used to measure total reducing sugars. Third, CAA notes that the December 26, 2006, deadline for comments falls over two major holidays, which will hinder its ability to collect data and comments from its members.

In response to this request, TTB extends the comment period for Notice No. 65 for an additional 90 days. Therefore, comments on Notice No. 65 are now due on or before March 26, 2007.

Dated: November 21, 2006.
John J. Manfreda,
Administrator.

[FR Doc. E6-20506 Filed 12-4-06; 8:45 am]

BILLING CODE 4810-31-P